ENVIRONMENTAL PROTECTION AGENCY

[FRL-6711-7]

Proposed Settlement Under Section 122(g) of the Comprehensive Environmental Response, Compensation and Liability Act; Tulalip Landfill Superfund Site

AGENCY: Environmental Protection Agency (EPA).

ACTION: Notice of proposed administrative settlement and opportunity for public comment.

SUMMARY: The U.S. Environmental Protection Agency (“EPA”) is proposing to enter into an administrative settlement to resolve claims under the Comprehensive Environmental Response, Compensation and Liability Act of 1980, as amended (“CERCLA”). Notice is being published to inform the public of the proposed settlement and of the opportunity to comment. The settlement is intended to resolve past and estimated future liabilities of one de minimis party for costs incurred, or to be incurred, by EPA at the Tulalip Landfill Superfund Site in Marysville, Washington.

DATES: Comments must be provided on or before July 17, 2000.

ADDRESSES: Comments should be addressed to Docket Clerk, U.S. Environmental Protection Agency, Region 10, ORC-158, 1200 Sixth Avenue, Seattle, Washington 98101, and should refer to In Re Tulalip Landfill Superfund Site, Marysville, Washington, U.S. EPA Docket No. CERCLA-10-99-0197.

FOR FURTHER INFORMATION CONTACT: Elizabeth McKenna, Office of Regional Counsel (ORC-158), 1200 Sixth Avenue, Seattle, Washington 98101, (206) 553-0016.

SUPPLEMENTARY INFORMATION: In accordance with Section 122(i)(1) of CERCLA, notice is hereby given of a proposed administrative settlement concerning the Tulalip Landfill hazardous waste site located on Ebey Island between Steamboat Slough and Ebey Slough in the Snohomish River delta system between Everett and Marysville, Washington. The Site was listed on the National Priorities List (“NPL”) on April 25, 1995. 60 FR 20350 (April 25, 1995). Subject to review by the public pursuant to this Notice, the agreement has been approved by the United States Department of Justice. The party who has executed the proposed Administrative Order on Consent is Marco Seattle, Inc.

The EPA is entering into this agreement under the authority of sections 122(g), 106 and 107 of CERCLA, 42 U.S.C. 9622(g), 9606 and 9607. Section 122(g) authorizes settlements with de minimis parties to allow them to resolve their liabilities at Superfund sites without incurring substantial transaction costs. Under this authority, the agreement proposes to settle with a party in the Tulalip Landfill case who is responsible for less than 0.6% of the volume of hazardous substances at the site.

In February and March 1988, EPA contractor Ecology & Environment, Inc. (“E&E”) performed a site inspection of the landfill for NPL evaluation. The inspection revealed groundwater contamination with unacceptably high levels of arsenic, barium, cadmium, chromium, lead, mercury, and silver. Water samples taken in the wetlands adjacent to the site showed exceedences of marine chronic criteria for cadmium, chromium, and lead, as well as exceedences in marine acute criteria for copper, nickel, and zinc. In addition, a variety of metals were found in on-site pools and leachate. The study concluded that contamination was migrating off site. On July 29, 1991, EPA proposed adding the Tulalip Landfill to the NPL, and on April 25, 1995, with the support of the Governor of the State of Washington and the Tulalip Tribes of Washington, EPA published the final rule adding the Site to the NPL.

EPA performed a Remedial Investigation (“RI”) and Feasibility Study (“FS”) in two parts pursuant to an Administrative Order on Consent with several potentially responsible parties. The first part evaluated various containment alternatives for the landfill source area, which includes approximately 147 acres in which waste was deposited. The second part evaluated the off-source areas, which include the wetlands and tidal channels that surround the landfill source area.

On March 1, 1996, EPA issued a Record of Decision that selected an interim remedial action for the source area. The selected interim remedy requires installation of an engineered, low-permeability cover over the source area of the landfill, at an estimated cost of $25.1 million. On September 29, 1998, EPA issued a Record of Decision that selected the final remedial action for the source and off-source areas. The selected final remedy requires completion of the cover over the source area and placement of signs in the off-source area. The estimated cost of the signs is approximately $15,000.

The proposed settlement requires the settling party to pay a fixed sum of money based on its volumetric share. The total amount to be recovered from the proposed settlement is $110,698, paid in five equal annual installments, plus interest at 5% per annum. The amount paid will be deposited in the Tulalip Landfill Special Account within the EPA Hazardous Substances Superfund to be used for the cover over the source area at the landfill. Upon full payment, the settling party will receive a release from further civil or administrative liabilities for the Site and statutory contribution protection under Section 122(g)(5) of CERCLA, 42 U.S.C. 9622(g)(5).

EPA will receive written comments relating to this proposed settlement for a period of thirty (30) days from the date of this publication.

The proposed agreement may be obtained from Cindy Colgate, Office of Environmental Cleanup (ECL-113), 1200 Sixth Avenue, Seattle, Washington 98101, (206) 553-1815. The Administrative Record for this settlement may be examined at the EPA's Region 10 office located at 1200 Sixth Avenue, Seattle, Washington 98101, by contacting Bob Phillips, Superfund Records Manager, Office of Environmental Cleanup (ECL-110), 1200 Sixth Avenue, Seattle, Washington 98101, (206) 553-6699.

Authority: The Comprehensive Environmental Response, Compensation and Liability Act, as amended, 41 U.S.C. Sections 9601-9675.

Chuck Clarke,
Regional Administrator, Region 10.

[FR Doc. 00-14491 Filed 6-15-00; 8:45 am]

BILLING CODE 6560-50-P